OFFICE OF NATIONAL DRUG CONTROL POLICY

Paperwork Reduction Act; Proposed Collection; Comment Request

AGENCY: Office of National Drug Control Policy.

ACTION: Notice of Submission to OMB and 30-Day Public Comment Period. Reinstatement with Change of Previously Approved Collection: Drug-Free Communities Support Program National Evaluation.

SUMMARY: In accordance with the Paperwork Reduction Act of 1995 (Pub. L. 104-13, 44 U.S.C. Chapter 35), the Office of National Drug Control Policy (ONDCP) announces it will submit to the Office of Management and Budget (OMB) Office of Information and Regulatory Affairs (OIRA) an information collection request for processing under 5 CFR 1320.10. The purpose of this notice is to allow for an additional 30 days of public comment.

DATES: Public comments will be accepted until April 23, 2015.

ADDRESSES: Interested persons are invited to submit comments regarding this proposal. Comments should refer to the collection title by name or OMB Control Number, and should be sent to: Desk Officer for ONDCP, Office of Information and Regulatory Affairs, Office of Management and Budget, 725 17th Street NW., Room 10235, New Executive Office Building, Washington, DC 20503 or electronically mailed to oira_submission@omb.eop.gov.

FOR FURTHER INFORMATION CONTACT: Helen Hernandez, Administrator, Drug-Free Communities Support Program. Facsimile and email are the most reliable means of communication. Ms. Hernandez's facsimile number is 202-395-6641, and her email address is hhernandez@ondcp.eop.gov. Mailing address is: Executive Office of the President, Office of National Drug Control Policy, Drug-Free Communities Support Program, 750 17th Street NW., Washington, DC 20503. Copies of available documents submitted to OMB are available from and for further information Ms. Hernandez may be contacted at 202-395-6665.

SUPPLEMENTARY INFORMATION: This notice informs the public that ONDCP has submitted to OMB a request for approval of the information collection described in Section A.

The Federal Register notice that solicited public comment on the information collection for a period of 60 days was published on December 1, 2014 (FR #2014-28273).

A. Overview of Information Collection

Title of Information Collection: Drug-Free Communities (DFC) Support Program National Evaluation.

OMB Approval Number: 3201-0012.

Type of Request: Reinstatement with change of a previously approved collection.

Form Number: NA.

Description of the need for the information and proposed use: ONDCP administers the Drug-Free Communities (DFC) Support Program in partnership with the Substance Abuse and Mental Health Services Administration's (SAMHSA) Center for Substance Abuse Prevention (CSAP). The DFC Program has two primary goals: To reduce youth substance abuse, and to support community anti-drug coalitions by establishing, strengthening, and fostering collaboration among public and private agencies.

Under ONDCP's reauthorization legislation (21 U.S.C. 1702), Congress mandated an evaluation of the DFC Program to determine its effectiveness in meeting objectives. In 2009, a contract was awarded to evaluate the DFC Program which used an existing web-based performance system, called the Coalition Online Management and Evaluation Tool (COMET) and the Coalition Classification Tool (CCT), to gather information from DFC grantees and SAMHSA CSAP's Sober Truth on Preventing Underage Drinking Reauthorization Act (STOP Act) grantees. (STOP Act data collection is authorized and required by 42 U.S.C. 290bb-35b and Section 519B of the Public Health Service Act).

ONDCP awarded a contract for a DFC grant oversight system in January 2015 following a competitive request for proposals process. Currently, DFC grantees interact with multiple separate systems. ONDCP's new grant oversight system with a new data collection platform will replace the current COMET system. The development and implementation of the DFC grant oversight system will strengthen ONDCP's oversight of the DFC Program. The data collected will have minimal changes compared to what is currently collected. The new system data collection tool will be more user friendly and reduce the burden on grantees. For FY 2015 grantees, awards anticipated mid-CY2015, ONDCP/DFC expects the new data collection system to be fully functional for DFC data collection and STOP Act data collection.

ONDCP's Drug-Free Communities office will continue to utilize the case study protocols previously approved by OMB to document coalition practices, successes and challenges. Approximately nine DFC grantees are selected each year to highlight in the case studies. The information from the case studies will be used to illustrate not only what works to reduce drug use in a community setting, but also how and why it works.

ONDCP intends to use the data of the DFC National Evaluation to assess the DFC Program's effectiveness in preventing and reducing youth substance use. Two primary objectives of the evaluation are to: (1) Regularly monitor, measure and analyze data in order to report on the progress of the DFC Program and its grantees on program goals, and (2) providing technical assistance support to DFC grantees in effectively collecting and submitting data and in understanding the role of data in driving local coalition efforts.

The STOP Act program Evaluation will make use of the monitoring and tracking questionnaire to serve as a semi-annual report for STOP Act grantees and will provide information for SAMHSA, pursuant to SAMHSA authorities.

Respondents: DFC current grantees and STOP Act grantees (includes both current and former DFC grantees).

Type of Information Collection: Web-based data collection, surveys and interviews of DFC and Sober Truth on Preventing Underage Drinking (STOP) Act grantees.

Estimated Number of Respondents: 826.

Estimated Number of Responses: 2,189.

Frequency of Response: Semi-annually, annually and biennially. Progress reports semi-annually by DFC and STOP Act Program Directors via the new DFC Grant Oversight System, core measures biennially by DFC and STOP Act Program Directors via DFC Grant Oversight System and CCT annually for DFC Program Directors via DFC Grant Oversight System. Case study interviews of Program Directors and selected coalition members will be accomplished one time. ONDCP awarded a contract for the new data collection grant oversight system in January 2015. For FY 2015 grantees, ONDCP/DFC expects the new data collection system to be fully functional for DFC data collection and STOP Act data collection.

Average Hours per Response: Varies. ONDCP expects that the time required for DFC grantees to complete each semi-annual progress report will be approximately five hours, and each CCT report will take approximately three hours to complete. Face to face interviews and focus groups with DFC grantees selected for site visits will take 1.5-2 hours each to complete. STOP Act grantees and will also complete semi-annual progress reports at an estimated five hours. The estimate of time for DFC and STOP Act grantees includes biennial core measure data submission.

Total Estimated Burden: 9,052. (Comprehensive of all respondents over one year, including: DFC Program Directors and grantees to complete progress reports, CCT surveys, and interviews; and STOP Act grantees. ONDCP estimates that DFC grantees will spend approximately the same amount or less when using the new DFC data collection system).

Solicitation of Public Comment

No comments were received during the 60-day notice. This notice is soliciting comments from members of the public and affected parties concerning the collection of information described in Section A on the following:

(1) Whether the proposed data are proper for the functions of the agency;

(2) Whether the information will have practical utility;

(3) The accuracy of ONDCP's estimate of the burden of the proposed collection of information, including the validity of the methodology and assumptions;

(4) Ways to enhance the quality, utility, and clarity of the information to be collected; and, ways to ease the burden on proposed respondents, including the use of automated collection techniques or other forms of information technology.

ONDCP encourages interested parties to submit comments in response to these questions.

Authority: The Paperwork Reduction Act of 1995, 44 U.S.C. Chapter 35.

Dated: March 18, 2015.
Daniel S. Rader,
Deputy General Counsel.

[FR Doc. 2015-06616 Filed 3-23-15; 8:45 am]

BILLING CODE 3280-F5-P